DEPARTMENT OF DEFENSE

Department of the Navy

[Docket ID USN-2009-0001]

Privacy Act of 1974; System of Records

AGENCY: U.S. Marine Corps, DoD.

ACTION: Notice to alter a system of records.

SUMMARY: The U.S. Marine Corps is proposing to alter system of records notice to its existing inventory of records systems subject to the Privacy Act of 1974, (5 U.S.C. 552a), as amended.

DATES: This proposed action will be effective without further notice on March 12, 2009 unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the address above.

The proposed system report, as required by 5 U.S.C. 552a(r), of the Privacy Act of 1974, as amended, was submitted on February 4, 2009 to the House Committee on Oversight and Government Reform, the Senate Committee on Homeland Security and Governmental Affairs, and the Office of Management and Budget (OMB) pursuant to paragraph 4c of Appendix I to OMB Circular No. A-130, ‘Federal Agency Responsibilities for Maintaining Records About Individuals,' dated February 8, 1996 (February 20, 1996, 61 FR 6427).

Dated: February 4, 2009.
Morgan E. Frazier,
Alternate OSD Federal Register Liaison Officer, Department of Defense.

MAA00002

System name:

Marine Corps Aircrew Performance/Qualification Information (May 11, 1999, 64 FR 25299).

Changes:

Change System ID to read “M05420-2.”

* * * * *

System Name:

Delete entry and replace with “Marine Corps Aircrew Performance Qualification Records.”

System location:

Delete entry and replace with “The Commandant of the Marine Corps, Headquarters, United States Marine Corps, Aviation Department, Washington, DC 20380-1775.”

Categories of individuals covered by the system:

Delete entry and replace with “Marine Corps aeronautically designated personnel (Naval Aviators, Naval Flight Officers and aircrew members).

Categories of records in system:

Delete entry and replace with “Applicant's full name, Social Security Number (SSN), information on medical qualification, flight pay, Flight Status Selection Board (FSSB)/Field Flight Performance Board (FFPB) correspondence and personal/career information for applicants to various selection boards managed by Headquarters, Marine Corps Aviation Manpower (ASM).”

Authority for maintenance of the system:

Delete entry and replace with “10 U.S.C. 5013, Secretary of the Navy; 10 U.S.C. 5041, Headquarters, U.S. Marine Corps; OPNAVINST 3710.7T NATOPS, General Flight and Operating Instructions and E.O. 9397 (SSN).”

* * * * *

Routine users of records maintained in the system, including categories of users and the purpose of such uses:

Delete entry and replace with “In addition to the disclosure generally permitted under 5 U.S.C. 552a(b) of the Privacy Act, these records or information contained therein, may specifically be disclosed outside the DoD as a routine use pursuant to 5 U.S.C. 552a(b)(3) as follows:

The ‘DoD Blanket Routine Uses' published at the beginning of the Marine Corps' compilation of systems of records notices apply to this system.”

* * * * *

Storage:

Delete entry and replace with “Paper records and/or electronic storage media.”

Retrievability:

Delete entry and replace with “Alphabetically by last name.”

Safeguards:

Delete entry and replace with “Physical entry is restricted by the use of locks, guards, and is accessible by authorized personnel. Access to records is limited to person(s) responsible for servicing the record in the performance of their official duties and who are properly screened and cleared for need-to-know. System software uses Primary Key Infrastructure (PKI)/Common Access Card (CAC) authentication to lock out unauthorized access. System software contains authorization/permission partitioning to limit access to appropriate organization level.”

Retention and disposal:

Delete entry and replace with “Files are permanent. Five years after any decision or board action, file is retired to the Federal Records Center.”

System manager(s) and address:

Delete entry and replace with “The Commandant of the Marine Corps, Headquarters, Marine Corps Aviation Support Branch (ASM), United States Marine Corps, 3000 Pentagon, Room 5E527, Washington, DC 20380-3000.”

Notification procedures:

Delete entry and replace with “Individuals seeking access to information about themselves contained in this system should address written inquiries to Headquarters, Marine Corps Administrative Support Branch (AAB), 3000 Marine Corps Pentagon, Room 5E518, Washington, DC 20380-3000.

The request should contain the full name, Social Security Number (SSN) and signature.”

Record access procedures:

Delete entry and replace with “Individuals seeking access to information about themselves contained in this system should address written inquiries to Headquarters, Marine Corps Administrative Support Branch (AAB), 3000 Marine Corps Pentagon, Room 5E518, Washington, DC 20380-3000.

The request should contain the full name, Social Security Number (SSN) and signature.”

Contesting record procedures:

Delete entry and replace with “The USMC rules for contesting contents and appealing initial agency determinations are published in Secretary of the Navy Instruction 5211.5E; 32 CFR part 701; or may be obtained from the system manager, Headquarters Marine Corps Administrative Support Branch (AAB), 3000 Marine Corps Pentagon, Room 5E518, Washington, DC 20380-3000.”

* * * * *

M05420-2

System name:

Marine Corps Aircrew Performance Qualification Records.

System location:

The Commandant of the Marine Corps, Headquarters, United States Marine Corps, Aviation Department, Washington, DC 20380-1775.

Categories of individuals covered by the system:

Marine Corps aeronautically designated personnel (Naval Aviators, Naval Flight Officers, and aircrew members).

Categories of records in the system:

Applicant's full name, Social Security Number (SSN); information on medical qualification, flight pay, FSSB/FPPB correspondence and personal/career information for applicants to various selection boards managed by Headquarters, Marine Corps Aviation Manpower (ASM).

Authority for maintenance of the system:

10 U.S.C. 5013, Secretary of the Navy; 10 U.S.C. 5041, Headquarters, U.S. Marine Corps; OPNAVINST 3710.7T NATOPS, General Flight and Operating Instructions and E.O 9397 (SSN).

Purpose(s):

To maintain records on Marine Corps aeronautically designated personnel for use by Officials and employees of the Marine Corps in the administration and management of such personnel.

Routine users of records maintained in the system, including categories of users and the purpose of such uses:

In addition to the disclosure generally permitted under 5 U.S.C. 552a(b) of the Privacy Act, these records or information contained therein, may specifically be disclosed outside the DoD as a routine use pursuant to 5 U.S.C. 552a(b)(3) as follows:

The ‘DoD Blanket Routine Uses' published at the beginning of the Marine Corps' compilation of systems of records notices apply to this system.

Policies and practices for storing, retrieving, accessing, retaining, and disposing of records in the system:

Storage:

Paper records and/or electronic storage media.

Retrievability:

Alphabetically by last name.

Safeguards:

Physical entry is restricted by the use of locks, guards, and is accessible by authorized personnel. Access to records is limited to person(s) responsible for servicing the record in the performance of their official duties and who are properly screened and cleared for need-to-know. System software uses Primary Key Infrastructure (PKI)/Common Access Card (CAC) authentication to lock out unauthorized access. System software contains authorization/permission partitioning to limit access to appropriate organization level.

Retention and disposal:

Files are permanent. Five years after any decision or board action, file is retired to the Federal Records Center.

System manager(s) and address:

The Commandant of the Marine Corps, Headquarters, Marine Corps Aviation Support Branch (ASM), United States Marine Corps, 3000 Pentagon, Room 5E527, Washington, DC 20380-3000.

Notification procedure:

Individuals seeking access to information about themselves contained in this system should address written inquiries to Headquarters, Marine Corps Administrative Support Branch (AAB), 3000 Marine Corps Pentagon, Room 5E518, Washington, DC 20380-3000.

The request should contain the full name, Social Security Number (SSN) and signature.

Record access procedures:

Individuals seeking access to information about themselves contained in this system should address written inquiries to Headquarters, Marine Corps Administrative Support Branch (AAB), 3000 Marine Corps Pentagon, Room 5E518, Washington, DC 20380-3000.

The request should contain the full name, Social Security Number (SSN) and signature.

Contesting record procedures:

The USMC rules for contesting contents and appealing initial agency determinations are published in Secretary of the Navy Instruction 5211.5E; 32 CFR part 701; or may be obtained from the system manager, Headquarters Marine Corps Administrative Support Branch (AAB), 3000 Marine Corps Pentagon, Room 5E518, Washington, DC 20380-3000.

Record source categories:

Information is obtained from Official reports, boards, inquiries and requests. Information is also obtained from the review of Naval Aviator/Naval Flight Officer Reporting Management System data.

Exemptions claimed for the system:

None.

[FR Doc. E9-2796 Filed 2-9-09; 8:45 am]

BILLING CODE 5001-06-P